DEPARTMENT OF THE INTERIOR

Bureau of Indian Affairs

Land Acquisitions; Muckleshoot Indian Tribe, Washington

AGENCY: Bureau of Indian Affairs, Interior.

ACTION: Notice of Final Agency Determination to take land into trust under 25 CFR Part 151.

SUMMARY: The Acting Deputy Assistant Secretary for Policy and Economic Development made a final agency determination to acquire approximately 22.00 acres of land into trust for the Muckleshoot Indian Tribe, Washington on December 12, 2008. This notice is published in the exercise of authority delegated by the Secretary of the Interior to the Assistant Secretary—Indian Affairs by 209 Departmental Manual 8.1. The duties of the Assistant Secretary—Indian Affairs were delegated to the Acting Deputy Assistant Secretary for Policy and Economic Development on May 23, 2008.

FOR FURTHER INFORMATION CONTACT: Paula L. Hart, Acting Director, Office of Indian Gaming, Bureau of Indian Affairs, MS-3657 MIB, 1849 C Street, NW., Washington, DC 20240; Telephone (202) 219-4066.

SUPPLEMENTARY INFORMATION: This notice is published to comply with the requirements of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On December 12, 2008, the Acting Deputy Assistant Secretary for Policy and Economic Development decided to accept approximately 22.00 acres of land into trust for the Muckleshoot Indian Tribe, Washington under the authority of the Indian Reorganization Act of 1934, 25 U.S.C. 465. The 22.00 acres are located within the exterior boundaries of the Muckleshoot Indian Reservation, Washington. The property will be used for the Muckleshoot Bingo and additional parking for the Muckleshoot Casino.

The Wynn Property is described as follows:

PARCEL A (202105-9021-02)

The West half of the Southeast quarter of the Southwest quarter of Section 20, Township 21 north, Range 5 East, W.M., records of King County, Washington; EXCEPT county road; AND EXCEPT portion taken for state highway.

PARCEL B (292105-9059-08)

That portion of the Northeast quarter of the Northwest quarter, lying northerly of Enumclaw-Franklin-Howard Road, in Section 29, Township 21 North, Range 5 East, W.M., in King County, Washington.

The Casino Parking Lot Property is described as follows:

PARCEL A

The north 97.95 feet of the following described property:

That portion of the west half of the southeast quarter of Section 20, Township 21 north, Range 5 east, W.M., in King County, Washington, described as follows: Beginning at the intersection of a line which is 330 feet northerly of and concentric with the center line of Primary State Highway Number 5 revised, with the east line of the southwest quarter of the southeast quarter of said Section 20; thence northerly along said east line 225 feet; thence west 30 feet to the TRUE POINT OF BEGINNING of the tract herein described; thence continuing west 120 feet; thence north parallel with the east line of said west half of the southeast quarter, 217.95 feet; thence east 120 feet to a point on a line 30 feet west of the east line of said west half of the southeast quarter; thence south 217.95 to the TRUE POINT OF BEGINNING. EXCEPT that portion of any lying within Dogwood Street Southeast.

PARCEL B

That portion of the west half of the southeast quarter of Section 20, Township 21 north, Range 5 east, W.M., in King County, Washington described as follows:

Beginning at the intersection of a line which is 330 feet northerly of and concentric with the center line of Primary State Highway Number 5 revised, with the east line of the southwest quarter of the southeast quarter of said Section 20; thence northerly along said east line 285 feet; thence west 30 feet to the TRUE POINT OF BEGINNING of the tract herein described; thence continuing west 120 feet; thence north parallel with the east line of said west half of the southeast quarter, 60 feet; thence east 120 feet to a point on a line 30 feet west of the east line of said west half of the southeast quarter; thence south 60 feet to the TRUE POINT OF BEGINNING. EXCEPT that portion if any lying within Dogwood Street Southeast.

PARCEL C

That portion of the west half of the southeast quarter of Section 20, Township 21 north, Range 5 east, W.M., in King County, Washington, described as follows:

Beginning at the intersection of a line which is 330 feet northerly of and concentric with the center line of Primary State Highway Number 5 revised, with the east line of the southwest quartet of the southeast quarter of said Section 20; thence northerly along said east line 225 feet; thence west 30 feet to the TRUE POINT OF BEGINNING of the tract herein described; thence continuing west 120 feet; thence north parallel with the east line of said west half of the southeast quarter, 60 feet; thence east 120 feet to a point on a line 30 feet west of the east line of said west half of the southeast quarter; thence south 60 feet to the TRUE POINT OF BEGINNING. EXCEPT that portion if any lying within Dogwood Street Southeast.

PARCEL D

That portion of the southwest quarter of the southeast quarter of Section 20, Township 21 north, Range 5 east, W.M., in King County, Washington, described as follows:

Beginning at the intersection of the west line of the southwest quarter of the southeast quarter of Section 20, Township 21 north, Range 5 east, W.M., in King County, Washington, with the northerly line of Primary State Highway Number 5 Revision, according to the plan on file in the Office of State Highway Department approved June 17, 1941; thence easterly along said northerly line 60 feet; thence north 20°31′ east, perpendicular with the tangent of said highway, 280 feet, more or less, to a line which is concentric with and 330 feet northerly of the center line of said highway; thence easterly along said concentric line to the east line of said southwest quarter of the southeast quarter and the TRUE POINT OF BEGINNING of the tract of land herein described; thence northerly along said east line 225 feet; thence due west 330 feet; thence due south to a line, which is concentric with and 330 feet northerly of the center line of said Primary State Highway No. 5; thence easterly along said concentric line to the TRUE POINT OF BEGINNING; EXCEPT the east 30 feet thereof.

Dated: December 22, 2008.
George T. Skibine,
Acting Deputy Assistant Secretary for Policy and Economic Development.

[FR Doc. E9-183 Filed 1-8-09; 8:45 am]

BILLING CODE 4310-4N-P